DEPARTMENT OF HOMELAND SECURITY

U.S. Immigration and Customs Enforcement

[OMB Control Number 1653-0037]

Agency Information Collection Activities; Extension, Without Change, of a Currently Approved Collection: Form No. I-515A; Notice to Student or Exchange Visitor

AGENCY: U.S. Immigration and Customs Enforcement, Department of Homeland Security.

ACTION: 60-Day notice.

SUMMARY: In accordance with the Paperwork Reduction Act (PRA) of 1995, the Department of Homeland Security (DHS), U.S. Immigration and Customs Enforcement (ICE) will submit the following Information Collection Request (ICR) to the Office of Management and Budget (OMB) for review and clearance.

DATES: Comments are encouraged and will be accepted until November 3, 2025.

ADDRESSES: All submissions received must include the OMB Control Number 1653-0037 in the body of the correspondence, the agency name and Docket ID ICEB-2009-0004. All comments received will be posted without change to http://www.regulations.gov, including any personal information provided.

(1) Online. Submit comments via the Federal eRulemaking Portal website at http://www.regulations.gov under e-Docket ID number ICEB-2009-0004.

FOR FURTHER INFORMATION CONTACT: If you have questions related to this collection, call or email Sharon Snyder, Student and Exchange Visitor Program (SEVP), 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: Notice to Student or Exchange Visitor.

(3) Agency form number, if any, and the applicable component of the Department of Homeland Security sponsoring the collection: Form I-515A; U.S. Immigration and Customs Enforcement.

(4) Affected public who will be asked or required to respond, as well as a brief abstract Primary: Individuals or Households. When an academic student (F-1), vocational student (M-1), exchange visitor (J-1), or dependent (F-2, M-2 or J-2) is admitted to the United States as a nonimmigrant alien under section 101(a)(15) of the Immigration and Nationality Act, he or she is required to have certain documentation. If the student or exchange visitor or dependent is missing documentation, he or she is provided with the Form I-515A, “Notice to Student or Exchange Visitor.” The Form I-515A provides a list of the documentation the student or exchange visitor or dependent will need to provide to the Department of Homeland Security (DHS), Student and Exchange Visitor Program (SEVP) office within 30 days of admission.

(5) An estimate of the total number of respondents and the amount of time estimated for an average respondent to respond: 1,200 respondents at 25 minutes (.416 hours) per response.

(6) An estimate of the total public burden (in hours) associated with the collection: 500 annual burden hours.

Dated: August 29, 2025.
Scott Elmore,
PRA Clearance Officer.

[FR Doc. 2025-16867 Filed 9-2-25; 8:45 am]

BILLING CODE 9111-28-P